DEPARTMENT OF TRANSPORTATION

14 CFR Part 97

[Docket No. 30768; Amdt. No. 3413]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 14, 2011. The compliance date for each SIAP, associated Takeoff Minimums, and ODP is specified in the amendatory provisions.

The incorporation by reference of certain publications listed in the regulations is approved by the Director of the Federal Register as of February 14, 2011.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 4, 2011.
John McGraw,
Deputy Director, Flight Standards Service.

Adoption of the Amendment

Accordingly, pursuant to the authority delegated to me, Title 14, Code of Federal Regulations, part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
10-Mar-11 | AR | Little Rock | Adams Field | 0/2077 | 1/26/11 | RADAR-1, Amdt 17
10-Mar-11 | AR | Little Rock | Adams Field | 0/2078 | 1/26/11 | ILS OR LOC RWY 22R, Amdt 2
10-Mar-11 | AR | Little Rock | Adams Field | 0/2079 | 1/26/11 | VOR A, Orig-B
10-Mar-11 | AR | Little Rock | Adams Field | 0/2080 | 1/26/11 | ILS OR LOC RWY 4R, Amdt 2
10-Mar-11 | AR | Little Rock | Adams Field | 0/2081 | 1/26/11 | ILS OR LOC RWY 22L, Orig
10-Mar-11 | AR | Little Rock | Adams Field | 0/2084 | 1/26/11 | ILS OR LOC RWY 4L, Amdt 25C
10-Mar-11 | IN | Terre Haute | Terre Haute Intl—Hulman Field | 0/3721 | 1/5/11 | RNAV (GPS) RWY 14, Orig-A
10-Mar-11 | IN | Terre Haute | Terre Haute Intl—Hulman Field | 0/3722 | 1/5/11 | RNAV (GPS) RWY 5, Orig
10-Mar-11 | IN | Terre Haute | Terre Haute Intl—Hulman Field | 0/3723 | 1/5/11 | LOC BC RWY 23, Amdt 19
10-Mar-11 | IN | Terre Haute | Terre Haute Intl—Hulman Field | 0/3724 | 1/5/11 | VOR RWY 23, Amdt 20A
10-Mar-11 | IN | Terre Haute | Terre Haute Intl—Hulman Field | 0/3725 | 1/5/11 | ILS OR LOC RWY 5, Amdt 22E
10-Mar-11 | IN | Terre Haute | Terre Haute Intl—Hulman Field | 0/3726 | 1/5/11 | RNAV (GPS) RWY 32, Orig-A
10-Mar-11 | IN | Terre Haute | Terre Haute Intl—Hulman Field | 0/3727 | 1/5/11 | RADAR-1, Amdt 4
10-Mar-11 | IN | Terre Haute | Terre Haute Intl—Hulman Field | 0/3729 | 1/5/11 | RNAV (GPS) RWY 23, Orig
10-Mar-11 | MN | Rochester | Rochester Intl | 0/3831 | 1/3/11 | ILS OR LOC RWY 31, Amdt 22
10-Mar-11 | MA | Provincetown | Provincetown Muni | 1/0137 | 1/4/11 | RNAV (GPS) RWY 7, Orig-B
10-Mar-11 | GA | Atlanta | Hartsfield-Jackson Atlanta Intl | 1/0138 | 1/4/11 | ILS PRM RWY 27R (Sim. Close Parallel), Orig
10-Mar-11 | WV | Petersburg | Grant County | 1/0140 | 1/4/11 | GPS RWY 31, Amdt 1
10-Mar-11 | FL | Orlando | Orlando Intl | 1/0142 | 1/4/11 | ILS OR LOC RWY 35L, ILS RWY 35L (CAT II), ILS RWY 35L (CAT III), Amdt 6
10-Mar-11 | TN | Memphis | Memphis Intl | 1/0148 | 1/4/11 | ILS OR LOC RWY 27, Amdt 3
10-Mar-11 | TN | Memphis | Memphis Intl | 1/0149 | 1/4/11 | ILS OR LOC RWY 9, Amdt 27
10-Mar-11 | TN | Memphis | Memphis Intl | 1/0150 | 1/4/11 | ILS OR LOC RWY 18L, Amdt 2
10-Mar-11 | TN | Memphis | Memphis Intl | 1/0178 | 1/6/11 | ILS OR LOC RWY 36C, ILS RWY 36C (CAT II), ILS RWY 36C (CAT III), Amdt 3
10-Mar-11 | TN | Memphis | Memphis Intl | 1/0179 | 1/6/11 | ILS OR LOC RWY 36L, ILS RWY 36L (CAT II), ILS RWY 36L (CAT III), Amdt 14
10-Mar-11 | TN | Memphis | Memphis Intl | 1/0180 | 1/6/11 | ILS OR LOC RWY 36R, ILS RWY 36R (CAT II), ILS RWY 36R (CAT III), Amdt 3
10-Mar-11 | WI | Oshkosh | Wittman Rgnl | 1/0188 | 1/4/11 | RNAV (GPS) RWY 36, Amdt 1D
10-Mar-11 | WI | Oshkosh | Wittman Rgnl | 1/0189 | 1/4/11 | ILS OR LOC RWY 36, Amdt 6D
10-Mar-11 | WI | Oshkosh | Wittman Rgnl | 1/0190 | 1/4/11 | NDB RWY 36, Amdt 5C
10-Mar-11 | WI | Oshkosh | Wittman Rgnl | 1/0191 | 1/4/11 | VOR RWY 36, Amdt 16B
10-Mar-11 | WI | Oshkosh | Wittman Rgnl | 1/0192 | 1/4/11 | VOR RWY 27, Amdt 4B
10-Mar-11 | WI | Oshkosh | Wittman Rgnl | 1/0193 | 1/4/11 | LOC/DME BC RWY 18, Amdt 6B
10-Mar-11 | AR | De Queen | J Lynn Helms Sevier County | 1/0559 | 1/7/11 | RNAV (GPS) RWY 8, Orig
10-Mar-11 | SD | Sioux Falls | Joe Foss Field | 1/0728 | 1/18/11 | RNAV (GPS) RWY 21, Orig-B
10-Mar-11 | SD | Sioux Falls | Joe Foss Field | 1/0735 | 1/18/11 | VOR/DME OR TACAN RWY 33, Amdt 12A
10-Mar-11 | AR | De Queen | J Lynn Helms Sevier County | 1/0739 | 1/10/11 | Takeoff Minimums and Obstacle DP, Amdt 1
10-Mar-11 | MO | Trenton | Trenton Muni | 1/0740 | 1/18/11 | NDB RWY 36, Amdt 9A
10-Mar-11 | AR | Paragould | Kirk Field | 1/0742 | 1/10/11 | NDB RWY 22, Amdt 1
10-Mar-11 | WI | Wausau | Wausau Downtown | 1/0747 | 1/10/11 | RNAV (GPS) RWY 12, Orig
10-Mar-11 | AR | Heber Springs | Heber Springs Muni | 1/0749 | 1/18/11 | RNAV (GPS) RWY 23, Orig
10-Mar-11 | WI | Wausau | Wausau Downtown | 1/0750 | 1/10/11 | NDB OR GPS B, Orig
10-Mar-11 | IL | Chicago | Chicago-O'Hare Intl | 1/0754 | 1/10/11 | ILS OR LOC RWY 22L, Amdt 4H
10-Mar-11 | WI | Marshfield | Marshfield Muni | 1/0755 | 1/26/11 | NDB RWY 16, Amdt 9A
10-Mar-11 | NE | Lincoln | Lincoln | 1/0789 | 1/10/11 | ILS OR LOC RWY 18, Amdt 6E
10-Mar-11 | NE | Lincoln | Lincoln | 1/0790 | 1/10/11 | RNAV (GPS) RWY 14, Orig
10-Mar-11 | AL | Tuscaloosa | Tuscaloosa Rgnl | 1/0841 | 1/18/11 | Takeoff Minimums and Obstacle DP, Amdt 2
10-Mar-11 | WI | Marshfield | Marshfield Muni | 1/0912 | 1/26/11 | NDB OR GPS RWY 4, Amdt 13A
10-Mar-11 | AR | Rogers | Rogers Muni-Carter Field | 1/0913 | 1/26/11 | Takeoff Minimums and Obstacle DP, Orig
10-Mar-11 | AR | Texarkana | Texarkana Rgnl-Webb Field | 1/0914 | 1/19/11 | RNAV (GPS) RWY 31, Orig-A
10-Mar-11 | IN | New Castle | New Castle-Henry Co Muni | 1/0915 | 1/19/11 | NDB OR GPS RWY 9, Amdt 5A
10-Mar-11 | IN | New Castle | New Castle-Henry Co Muni | 1/0916 | 1/19/11 | NDB RWY 27, Amdt 5
10-Mar-11 | IL | Urbana | Frasca Field | 1/1096 | 1/18/11 | VOR/DME OR GPS B, Amdt 6
10-Mar-11 | IL | Urbana | Frasca Field | 1/1097 | 1/18/11 | VOR OR GPS A, Amdt 11
10-Mar-11 | VA | Franklin | Franklin Muni-John Beverly Rose | 1/1120 | 1/18/11 | RNAV (GPS) RWY 9, Orig
10-Mar-11 | VA | Franklin | Franklin Muni-John Beverly Rose | 1/1121 | 1/18/11 | VOR RWY 9, Amdt 14B
10-Mar-11 | VA | Franklin | Franklin Muni-John Beverly Rose | 1/1122 | 1/18/11 | VOR/DME RWY 27, Amdt 9E
10-Mar-11 | VA | Franklin | Franklin Muni-John Beverly Rose | 1/1123 | 1/18/11 | RNAV (GPS) RWY 27, Orig-A
10-Mar-11 | GA | Hampton | Clayton County—Tara Field | 1/1176 | 1/14/11 | RNAV (GPS) RWY 6, Orig
10-Mar-11 | IA | Webster City | Webster City Muni | 1/1309 | 1/18/11 | VOR/DME OR GPS RWY 14, Amdt 4
10-Mar-11 | WI | Hayward | Sawyer County | 1/1310 | 1/18/11 | RNAV (GPS) RWY 2, Orig-A
10-Mar-11 | IA | Hampton | Hampton Muni | 1/1312 | 1/18/11 | Takeoff Minimums and Obstacle DP, Amdt 3
10-Mar-11 | IA | Hampton | Hampton Muni | 1/1313 | 1/18/11 | VOR/DME RWY 35, Amdt 1B
10-Mar-11 | IA | Hampton | Hampton Muni | 1/1314 | 1/18/11 | RNAV (GPS) RWY 35, Orig
10-Mar-11 | IA | Hampton | Hampton Muni | 1/1315 | 1/18/11 | RNAV (GPS) RWY 17, Orig
10-Mar-11 | IA | Hampton | Hampton Muni | 1/1316 | 1/18/11 | NDB RWY 17, Amdt 4A
10-Mar-11 | IL | Centralia | Centralia Muni | 1/1318 | 1/18/11 | RNAV (GPS) RWY 36, Orig
10-Mar-11 | IL | Centralia | Centralia Muni | 1/1322 | 1/18/11 | RNAV (GPS) RWY 18, Orig
10-Mar-11 | NE | Scottsbluff | Western Neb. Rgnl/William B. Heilig Field | 1/1358 | 1/19/11 | ILS OR LOC/DME RWY 12, Orig
10-Mar-11 | NE | Crete | Crete Muni | 1/1437 | 1/18/11 | VOR/DME RWY 35, Amdt 3B
10-Mar-11 | MI | Lakeview | Lakeview Airport—Griffith Field | 1/1547 | 1/18/11 | GPS RWY 27, Orig
10-Mar-11 | MI | Lakeview | Lakeview Airport—Griffith Field | 1/1550 | 1/18/11 | GPS RWY 9, Orig
10-Mar-11 | VA | Warrenton | Warrenton-Fauquier | 1/1693 | 1/14/11 | RNAV (GPS) RWY 15, Orig
10-Mar-11 | VA | Warrenton | Warrenton-Fauquier | 1/1694 | 1/14/11 | VOR RWY 15, Amdt 4
10-Mar-11 | TN | Memphis | Memphis Intl | 1/1695 | 1/14/11 | RNAV (GPS) RWY 36C, Amdt 1
10-Mar-11 | NC | Oak Island | Brunswick County | 1/1790 | 1/14/11 | Takeoff Minimums and Obstacle DP, Orig
10-Mar-11 | FL | Brooksville | Hernando County | 1/1798 | 1/19/11 | ILS RWY 9, Amdt 2A
10-Mar-11 | FL | St. Petersburg | Albert Whitted | 1/1879 | 1/14/11 | RNAV (GPS) RWY 18, Orig-A
10-Mar-11 | OH | Hillsboro | Highland County | 1/1889 | 1/14/11 | NDB OR GPS RWY 23, Amdt 4
10-Mar-11 | LA | Bastrop | Morehouse Memorial | 1/1893 | 1/18/11 | NDB RWY 34, Amdt 6A
10-Mar-11 | LA | Bastrop | Morehouse Memorial | 1/1896 | 1/18/11 | VOR/DME A, Amdt 9A
10-Mar-11 | NJ | Woodbine | Woodbine Muni | 1/1912 | 1/14/11 | RNAV (GPS) RWY 1, Orig
10-Mar-11 | RI | Providence | Theodore Francis Green State | 1/1935 | 1/18/11 | RNAV (GPS) RWY 34, Orig-C
10-Mar-11 | NJ | Trenton | Trenton Mercer | 1/1936 | 1/18/11 | VOR OR GPS RWY 24, Amdt 4A
10-Mar-11 | TN | Springfield | Springfield Robertson County | 1/1938 | 1/18/11 | Takeoff Minimums and Obstacle DP, Orig
10-Mar-11 | NJ | Lincoln Park | Lincoln Park | 1/1939 | 1/19/11 | Takeoff Minimums and Obstacle DP, Orig
10-Mar-11 | TN | Smyrna | Smyrna | 1/1942 | 1/18/11 | ILS RWY 32. Amdt 5B
10-Mar-11 | FL | Lakeland | Lakeland Linder Rgnl | 1/1974 | 1/18/11 | VOR RWY 27, Amdt 7A
10-Mar-11 | FL | Lakeland | Lakeland Linder Rgnl | 1/1975 | 1/18/11 | VOR RWY 9, Amdt 4
10-Mar-11 | FL | Lakeland | Lakeland Linder Rgnl | 1/1977 | 1/18/11 | NDB RWY 5, Amdt 4A
10-Mar-11 | FL | Lakeland | Lakeland Linder Rgnl | 1/1978 | 1/18/11 | ILS OR LOC RWY 5, Amdt 7A
10-Mar-11 | MI | Traverse City | Cherry Capital | 1/2194 | 1/18/11 | GPS RWY 36, Orig-A
10-Mar-11 | IN | Indianapolis | Indianapolis Intl | 1/2195 | 1/19/11 | ILS OR LOC RWY 5L, ILS OR LOC RWY 5L (CAT II), ILS OR LOC RWY 5L (CAT III), Amdt 3A
10-Mar-11 | IL | Chicago | Chicago-O'Hare Intl | 1/2497 | 1/26/11 | RNAV (GPS) RWY 14L, Amdt 1B
10-Mar-11 | IL | Chicago | Chicago-O'Hare Intl | 1/2499 | 1/26/11 | RNAV (GPS) RWY 28, Amdt 2A
10-Mar-11 | IL | Chicago | Chicago-O'Hare Intl | 1/2500 | 1/26/11 | ILS OR LOC RWY 14L, ILS RWY 14L (CAT II), ILS RWY 14L (CAT III), Amdt 29B
10-Mar-11 | PA | Allentown | Lehigh Valley Intl | 1/2602 | 1/19/11 | RNAV (GPS) RWY 31, Amdt 1A
10-Mar-11 | VA | Richmond/Ashland | Hanover County Muni | 1/2664 | 1/26/11 | RNAV (GPS) RWY 16, Orig
10-Mar-11 | KY | Campbellsville | Taylor County | 1/2665 | 1/26/11 | SDF RWY 23, Amdt 2A
10-Mar-11 | KY | Campbellsville | Taylor County | 1/2667 | 1/26/11 | NDB OR GPS RWY 23, Amdt 3A
10-Mar-11 | TN | Memphis | Memphis Intl | 1/2724 | 1/26/11 | RNAV (GPS) RWY 36L, Amdt 1
10-Mar-11 | FL | Fort Lauderdale | Fort Lauderdale/Hollywood Intl | 1/2726 | 1/26/11 | ILS OR LOC RWY 27R, Amdt 9
10-Mar-11 | AL | Huntsville | Madison County Executive/Tom Sharp Jr. Fld | 1/2727 | 1/26/11 | Takeoff Minimums and Obstacle DP, Amdt 3
10-Mar-11 | GA | Atlanta | Newnan Coweta County | 1/2746 | 1/26/11 | Takeoff Minimums and Obstacle DP, Amdt 3A
10-Mar-11 | FL | Venice | Venice Muni | 1/2764 | 1/26/11 | NDB RWY 31, Amdt 2
10-Mar-11 | ME | Portland | Portland Intl Jetport | 1/2971 | 1/26/11 | RNAV (GPS) RWY 36, Orig-B
10-Mar-11 | OR | John Day | Grant Co. Rgnl/Ogilvie Field | 1/3435 | 1/26/11 | RNAV (GPS) Y RWY 9, Orig
10-Mar-11 | KY | Monticello | Wayne County | 1/3700 | 1/26/11 | GPS RWY 21, Orig
10-Mar-11 | KY | Monticello | Wayne County | 1/3702 | 1/26/11 | GPS RWY 3, Orig

[FR Doc. 2011-3000 Filed 2-11-11; 8:45 am]

BILLING CODE 4910-13-P